DEPARTMENT OF TRANSPORTATION

Federal Railroad Administration

[Docket Number FRA-2013-0145]

Petition for Waiver of Compliance

In accordance with part 211 of Title 49 Code of Federal Regulations (CFR), this document provides the public notice that by a document dated December 20, 2013, Mr. Burt Mall, Partner of 1003 Operations LLP, and Mr. Zachary Hall, mechanical manager, Steam Locomotive Heritage Association (SLHA), have jointly petitioned the Federal Railroad Administration (FRA) for a waiver of compliance from certain provisions of the Federal railroad safety regulations contained at 49 CFR part 215, Railroad Freight Car Safety Standards; Part 223, Safety Glazing Standards—Locomotives, Passenger Cars and Cabooses; and Part 224, Reflectorization of Rail Freight Rolling Stock. FRA assigned the petition Docket Number FRA-2013-0145.

Mr. Mall owns Soo Line Steam Locomotive #1003 and several historic cars (specifically, Box Car LLTX 10559, Caboose LLTX 2012, and Caboose LLTX 238). This petition is for these three cars. Mr. Mall leases the equipment to SLHA. SLHA, based in Hartford, WI, is a 501(c)(3) non-profit organization created to reconstruct, maintain, and display steam locomotives and associated historic railroad equipment for educational purposes. SLHA controls the operation and maintenance of the leased equipment.

The petitioners state that while Mr. Mall has owned these cars, their use has been restricted. The cars have not been interchanged in regular freight operations with other railroads. The primary use of the cars is transporting equipment and crews in support of Steam Locomotive #1003. At no time are the cars used to transport passengers or freight in revenue service. SLHA also at times receives inquiries for the operation of historic demonstration trains using the cars and Steam Locomotive #1003. The purposes of these trains are for photography, historic documentation, film production, and community involvement.

The petitioners further state that the operation of the equipment is primarily confined to Wisconsin and Southern Railroad (WSOR) trackage (although in the future, SLHA may operate on other railroads). The equipment is operated at a maximum speed of 49 mph on WSOR trackage. In addition, the equipment is moved under the direction of the mechanical manager or a qualified SLHA member during deadhead or light equipment moves. The maximum load that each car would be permitted to carry, if any, is provided in Exhibit A attached to the petition letter. Each car is inspected and maintained on a regular basis by qualified car inspectors and mechanics to ensure safe operations under the conditions of use.

The petitioners request that the stenciling requirement in 49 CFR 215.303, Stenciling of restricted cars, and the reflectorization requirements in 49 CFR part 224 be waived for Box Car LLTX 10559, Caboose LLTX 2012, and Caboose LLTX 238. In addition, the petitioners request that the glazing requirement of 49 CFR 223.13, Requirements for existing cabooses, be waived for the two cabooses, LLTX 2012 and LLTX 268.

As information, the petitioners have also requested a Special Approval to continue in service the above-mentioned three cars in accordance with 49 CFR 205.203(c).

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 28, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-02869 Filed 2-10-14; 8:45 am]

BILLING CODE 4910-06-P